INTERNATIONAL TRADE COMMISSION

[Investigation No. 337-TA-748]

In the Matter of Certain Data Storage Products and Components Thereof; Notice of Commission Determination Not To Review an Initial Determination Terminating the Investigation Based on a Withdrawal of the Complaint; Termination of the Investigation

AGENCY: U.S. International Trade Commission.

ACTION: Notice.

SUMMARY: Notice is hereby given that the U.S. International Trade Commission has determined not to review an initial determination (“ID”) (Order No. 9) of the presiding administrative law judge (“ALJ”) terminating the investigation based on withdrawal of the complaint.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 24, 2010 based on a complaint filed by Data Network Storage, LLC of Newport Beach, California (“DNS”). 75 FR 71736 (Nov. 24, 2010). The complaint alleged violations of section 337 of the Tariff Act of 1930 (19 U.S.C. 1337) in the importation into the United States, the sale for importation, and the sale within the United States after importation of certain data storage products and components thereof by reason of infringement of claims 1-8 of United States Patent No. 6,098,128. The complaint named several entities as respondents.

On December 15, 2010, DNS filed an unopposed motion to terminate the investigation in its entirety based on withdrawal of the complaint. On December 20, 2010, the Commission investigative attorney filed a response in support of the motion to terminate the investigation.

On December 22, 2010, the ALJ issued the subject ID (Order No. 9) terminating the investigation. None of the parties petitioned for review of the ID. The Commission has determined not to review the ID. Accordingly, this investigation is terminated.

The authority for the Commission's determination is contained in section 337 of the Tariff Act of 1930, as amended (19 U.S.C. 1337), and in section 210.42(h) of the Commission's Rules of Practice and Procedure (19 CFR 210.42(h)).

By order of the Commission.
Issued: January 10, 2011.
Marilyn R. Abbott,
Secretary to the Commission.

[FR Doc. 2011-708 Filed 1-13-11; 8:45 am]

BILLING CODE 7020-02-P